DEPARTMENT OF COMMERCE

National Oceanic and Atmospheric Administration

[RTID 0648-XC312]

Marine Mammals; File No. 26594

AGENCY: National Marine Fisheries Service (NMFS), National Oceanic and Atmospheric Administration (NOAA), Commerce.

ACTION: Notice; receipt of application.

SUMMARY: Notice is hereby given that Ann Zoidis, Cetos Research Organization 51 Kebo Ridge Road, Bar Harbor, ME 04609, has applied in due form for a permit to conduct research on marine mammals.

DATES: Written, telefaxed, or email comments must be received on or before September 28, 2022.

ADDRESSES: The application and related documents are available for review by selecting “Records Open for Public Comment” from the “Features” box on the Applications and Permits for Protected Species (APPS) home page, https://apps.nmfs.noaa.gov, and then selecting File No. 26594 from the list of available applications. These documents are also available upon written request via email to NMFS.Pr1Comments@noaa.gov.

Written comments on this application should be submitted via email to NMFS.Pr1Comments@noaa.gov. Please include File No. 26594 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Erin Markin, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to take marine mammals in the Atlantic and Pacific oceans to study population size, distribution, habitat use, and behavior. Up to 32 species of cetaceans may be targeted for research including the following ESA-listed species: blue (Balaenoptera musculus), fin (Balaenoptera physalus), false killer (Pseudorca crassidens; Main Hawaiian insular distinct population segment), North Atlantic right (Eubalaena glacialis), sei (Balaenoptera borealis), and sperm (Physeter macrocephalus) whales. Researchers would conduct vessel surveys and aerial surveys (manned and unmanned), for counts, observations, above water and underwater photography and video recording, photo-identification, photogrammetry, passive acoustic recording, biological sampling (sloughed skin, feces, and skin and blubber biopsy), and suction-cup tagging. Biological samples may be imported and exported for analysis. ESA-listed Hawaiian monk seals (Neomonachus schauinslandi) may be harassed during research. See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 23, 2022.
Julia M. Harrison,
Chief, Permits and Conservation Division, Office of Protected Resources, National Marine Fisheries Service.

[FR Doc. 2022-18494 Filed 8-26-22; 8:45 am]

BILLING CODE 3510-22-P